DEPARTMENT OF COMMERCE

National Oceanic and Atmospheric Administration

RIN 0648-XA308

Endangered and Threatened Species; Take of Anadromous Fish

AGENCY: National Marine Fisheries Service (NMFS), National Oceanic and Atmospheric Administration (NOAA), Commerce.

ACTION: Receipt of an application for a new scientific research permit.

SUMMARY: Notice is hereby given that NMFS has received a scientific research permit application request relating to salmonids listed under the Endangered Species Act (ESA). The proposed research is intended to increase knowledge of the species and to help guide management and conservation efforts. These documents are also available upon written request or by appointment by contacting NMFS by phone (707) 575-6097 or fax (707) 578-3435.

DATES: Written comments on the permit application must be received at the appropriate address or fax number (see ADDRESSES) no later than 5 p.m. Pacific standard time on April 21, 2011.

ADDRESSES: Written comments on this application should be submitted to the Protected Resources Division, NMFS, 777 Sonoma Avenue, Room 325, Santa Rosa, CA 95404. Comments may also be submitted via fax to (707) 578-3435 or by e-mail to FRNpermits.SR@noaa.gov.

The application and related documents may be viewed online at: https://apps.nmfs.noaa.gov/preview/preview_open_for_comment.cfm.

FOR FURTHER INFORMATION CONTACT: Jeffrey Jahn, Santa Rosa, CA (ph.: 707-575-6097, e-mail.: Jeffrey.Jahn@noaa.gov).

SUPPLEMENTARY INFORMATION:

Species Covered in This Notice

This notice is relevant to federally threatened Central California Coast (CCC) steelhead (Oncorhynchus mykiss).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the application listed in this notice should set out the specific reasons why a hearing on this application would be appropriate (see ADDRESSES). Such hearings are held at the discretion of the Assistant Administrator for Fisheries, NMFS.

Application Received

URS Corporation in Oakland, CA, is requesting a 5-year scientific research permit (Permit 16115) to take juvenile CCC steelhead associated with a research project in the Guadalupe River watershed in Santa Clara County, CA. In the study described below, researchers do not expect to kill any listed fish but a small number may die as an unintended result of the research activities.

The purpose of the research program is to collect warmwater fish species to analyze individuals for total mercury content, and to obtain information on CCC steelhead presence. Target species include adult California roach (Lavinia symmetricus) and young of the year largemouth bass (Micropterus salmoides). CCC steelhead captured during sampling will be placed in an aerated bucket, enumerated, measured and released at the point of capture; no samples will be taken of CCC steelhead. Locations and habitat conditions in areas that CCC steelhead are captured will be noted.

Sampling will occur once annually in 2011, 2012, and 2016; sample collection will take place between May 1 and June 30, depending on seasonal weather patterns and permit conditions. Fish will be collected by backpack electrofisher at five stream sampling sites. Captured unlisted warmwater fish will be analyzed for total mercury content to assess the success of Total Maximum Daily Load implementation efforts. URS Corporation will also be conducting boat electrofishing in reservoirs that do not contain ESA-listed anadromous fish and therefore take of CCC steelhead is not expected as a result of this collection method.

The program will satisfy the Regional Water Quality Control Board requirement to monitor mercury in waters downstream of historic quicksilver mines in the Guadalupe River watershed. Increased information regarding CCC steelhead habitat use and preference and proper management of mercury loads in this watershed are benefits associated with this research program.

This notice is provided pursuant to section 10(c) of the ESA. NMFS will evaluate the application, associated documents, and comments submitted to determine whether the application meets the requirements of section 10(a) of the ESA and Federal regulations. The final permit decision will not be made until after the end of the 30-day comment period. NMFS will publish notice of its final action in the Federal Register.

Dated: March 16, 2011.
Angela Somma,
Chief, Endangered Species Division, Office of Protected Resources, National Marine Fisheries Service.

[FR Doc. 2011-6731 Filed 3-21-11; 8:45 am]

BILLING CODE 3510-22-P